DEPARTMENT OF ENERGY

Federal Energy Regulatory Commission

Combined Notice of Filings #1

Take notice that the Commission received the following exempt wholesale generator filings:

Docket Numbers: EG21-165-000.

Applicants: Corazon Energy, LLC.

Description: Notice of Self-Certification of Exempt Wholesale Generator Status of Corazon Energy, LLC.

Filed Date: 6/8/21.

Accession Number: 20210608-5163.

Comments Due: 5 p.m. ET 6/29/21.

Take notice that the Commission received the following electric rate filings:

Docket Numbers: ER21-169-001.

Applicants: Southwest Power Pool, Inc.

Description: Compliance filing: Compliance Filing—Amendment No. 1 to Partial Settlement in ER14-2850-006 et al. to be effective 1/1/2021.

Filed Date: 6/9/21.

Accession Number: 20210609-5091.

Comments Due: 5 p.m. ET 6/30/21.

Docket Numbers: ER21-625-003.

Applicants: New York Independent System Operator, Inc.

Description: Compliance filing: NYISO supplemental notice of delayed effective date—SENY reserve enhancements to be effective 6/17/2021.

Filed Date: 6/8/21.

Accession Number: 20210608-5114.

Comments Due: 5 p.m. ET 6/29/21.

Docket Numbers: ER21-1551-001.

Applicants: California Independent System Operator Corporation.

Description: Compliance filing: 2021-06-08 RA Enhancements Waiver to be effective N/A.

Filed Date: 6/8/21.

Accession Number: 20210608-5135.

Comments Due: 5 p.m. ET 6/29/21.

Docket Numbers: ER21-1579-001.

Applicants: Duke Energy Progress, LLC, Duke Energy Florida, LLC, Duke Energy Carolinas, LLC.

Description: Tariff Amendment: Response to Deficiency Letter regarding Queue Reform to be effective 6/1/2021.

Filed Date: 6/8/21.

Accession Number: 20210608-5115.

Comments Due: 5 p.m. ET 6/29/21.

Docket Numbers: ER21-1673-001.

Applicants: Tri-State Generation and Transmission Association, Inc.

Description: Tariff Amendment: Submission of Amendment to Normalization Filing to be effective 6/12/2021.

Filed Date: 6/9/21.

Accession Number: 20210609-5074.

Comments Due: 5 p.m. ET 6/30/21.

Docket Numbers: ER21-1744-001.

Applicants: Brookfield Energy Marketing LP.

Description: Tariff Amendment: Supplement to Notice of Non-Material Change in Status to be effective 4/24/2021.

Filed Date: 6/9/21.

Accession Number: 20210609-5077.

Comments Due: 5 p.m. ET 6/30/21.

Docket Numbers: ER21-1745-001.

Applicants: Brookfield Energy Marketing Inc.

Description: Tariff Amendment: Supplement to Notice of Non-Material Change in Status to be effective 4/24/2021.

Filed Date: 6/9/21.

Accession Number: 20210609-5076.

Comments Due: 5 p.m. ET 6/30/21.

Docket Numbers: ER21-1746-001.

Applicants: Brookfield Renewable Energy Marketing US.

Description: Tariff Amendment: Supplement to Notice of Non-Material Change in Status to be effective 4/24/2021.

Filed Date: 6/9/21.

Accession Number: 20210609-5078.

Comments Due: 5 p.m. ET 6/30/21.

Docket Numbers: ER21-1747-001.

Applicants: Brookfield Renewable Trading and Marketing LP.

Description: Tariff Amendment: Supplement to Notice of Non-Material Change in Status to be effective 4/24/2021.

Filed Date: 6/9/21.

Accession Number: 20210609-5079.

Comments Due: 5 p.m. ET 6/30/21.

Docket Numbers: ER21-1748-001.

Applicants: Horseshoe Bend Wind, LLC.

Description: Tariff Amendment: Supplement to Notice of Non-Material Change in Status to be effective 4/24/2021.

Filed Date: 6/9/21.

Accession Number: 20210609-5080.

Comments Due: 5 p.m. ET 6/30/21.

Docket Numbers: ER21-1749-001.

Applicants: North Hurlburt Wind, LLC.

Description: Tariff Amendment: Supplement to Notice of Non-Material Change in Status to be effective 4/24/2021.

Filed Date: 6/9/21.

Accession Number: 20210609-5082.

Comments Due: 5 p.m. ET 6/30/21.

Docket Numbers: ER21-1750-001.

Applicants: South Hurlburt Wind, LLC.

Description: Tariff Amendment: Supplement to Notice of Non-Material Change in Status to be effective 4/24/2021.

Filed Date: 6/9/21.

Accession Number: 20210609-5083.

Comments Due: 5 p.m. ET 6/30/21.

Docket Numbers: ER21-2100-000.

Applicants: Point Beach Solar, LLC.

Description: Baseline eTariff Filing: Point Beach Solar, LLC Application for MBR Authority to be effective 7/20/2021.

Filed Date: 6/8/21.

Accession Number: 20210608-5137.

Comments Due: 5 p.m. ET 6/29/21.

Docket Numbers: ER21-2101-000.

Applicants: El Paso Electric Company.

Description: Tariff Cancellation: Termination of Rate Schedule Nos. 114 and 117 to be effective 8/7/2021.

Filed Date: 6/8/21.

Accession Number: 20210608-5148.

Comments Due: 5 p.m. ET 6/29/21.

Docket Numbers: ER21-2102-000.

Applicants: PJM Interconnection, L.L.C.

Description: § 205(d) Rate Filing: Original WMPA, Service Agreement No. 6088; Queue No. AF1-209 to be effective 5/12/2021.

Filed Date: 6/9/21.

Accession Number: 20210609-5021.

Comments Due: 5 p.m. ET 6/30/21.

Docket Numbers: ER21-2104-000.

Applicants: New York Independent System Operator, Inc.

Description: § 205(d) Rate Filing: 205 Operating agreement between NYISO & LS Power, SA No. 2627 to be effective 5/18/2021.

Filed Date: 6/9/21.

Accession Number: 20210609-5054.

Comments Due: 5 p.m. ET 6/30/21.

Docket Numbers: ER21-2105-000.

Applicants: New York Independent System Operator, Inc.

Description: § 205(d) Rate Filing: 205 filing of Operating agreement between NYISO & NextEra, SA No. 2628 to be effective 5/25/2021.

Filed Date: 6/9/21.

Accession Number: 20210609-5059.

Comments Due: 5 p.m. ET 6/30/21.

Docket Numbers: ER21-2106-000.

Applicants: New York Independent System Operator, Inc., Niagara Mohawk Power Corporation.

Description: § 205(d) Rate Filing: 205: Amended Restated LGIA among NYISO, NMPC and Ball Hill, SA No. 2473 to be effective 5/27/2021.

Filed Date: 6/9/21.

Accession Number: 20210609-5072.

Comments Due: 5 p.m. ET 6/30/21.

Docket Numbers: ER21-2107-000.

Applicants: Florida Power & Light Company.

Description: § 205(d) Rate Filing: FPL Certificate of Concurrence with DEF Rate Schedule No. 24 to be effective 8/8/2021.

Filed Date: 6/9/21.

Accession Number: 20210609-5081.

Comments Due: 5 p.m. ET 6/30/21.

Docket Numbers: ER21-2108-000.

Applicants: Pacific Gas and Electric Company.

Description: § 205(d) Rate Filing: City and County of San Francisco Potrero TFA (SA 284) to be effective 6/10/2021.

Filed Date: 6/9/21.

Accession Number: 20210609-5090.

Comments Due: 5 p.m. ET 6/30/21.

Docket Numbers: ER21-2109-000.

Applicants: Wheatridge Solar Energy Center, LLC.

Description: Baseline eTariff Filing: Wheatridge Solar Energy Center, LLC Application for MBR Authority to be effective 8/9/2021.

Filed Date: 6/9/21.

Accession Number: 20210609-5093.

Comments Due: 5 p.m. ET 6/30/21.

Docket Numbers: ER21-2110-000.

Applicants: GenOn Power Midwest, LP.

Description: Tariff Cancellation: Notice of Cancellation of Rate Schedule FERC No. 2 to be effective 9/15/2021.

Filed Date: 6/9/21.

Accession Number: 20210609-5104.

Comments Due: 5 p.m. ET 6/30/21.

Take notice that the Commission received the following qualifying facility filings:

Docket Numbers: QF21-980-000.

Applicants: Running Foxes Petroleum Inc.

Description: Form 556 of Running Foxes Petroleum Inc.

Filed Date: 6/9/21.

Accession Number: 20210609-5094.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2021.
Debbie-Anne A. Reese,
Deputy Secretary.

[FR Doc. 2021-12507 Filed 6-14-21; 8:45 am]

BILLING CODE 6717-01-P